SMALL BUSINESS ADMINISTRATION

[Declaration of Disaster #3628]

State of North Carolina

As a result of the President's major disaster declaration on September 18, 2004, I find that Avery, Buncombe, Burke, Caldwell, Haywood, Henderson, Jackson, Macon, Madison, McDowell, Mitchell, Polk, Rutherford, Transylvania, Watauga, and Yancey Counties in the State of North Carolina constitute a disaster area due to damages caused by Hurricane Ivan occurring on September 16, 2004, and continuing. Applications for loans for physical damage as a result of this disaster may be filed until the close of business on November 17, 2004, and for economic injury until the close of business on June 20, 2005, at the address listed below or other locally announced locations: U.S. Small Business Administration, Disaster Area 2 Office, One Baltimore Place, Suite 300, Atlanta, GA 30308.

In addition, applications for economic injury loans from small businesses located in the following contiguous counties may be filed until the specified date at the above location: Alexander, Ashe, Catawba, Clay, Cleveland, Cherokee, Graham, Lincoln, Swain and Wilkes in the State of North Carolina; Rabun County in the State of Georgia; Cherokee, Greenville, Oconee, Pickens, and Spartanburg Counties in the State of South Carolina; and Carter, Cocke, Greene, Johnson, and Unicol Counties in the State of Tennessee.

The interest rates are:

For Physical Damage

Homeowners with credit available elsewhere | 6.375%
Homeowners without credit available elsewhere | 3.187%
Businesses with credit available elsewhere | 5.800%
Businesses and non-profit organizations without credit available elsewhere | 2.900%
Others (including non-profit organizations) with credit available elsewhere | 4.875%

For Economic Injury

Businesses and small agricultural cooperatives without credit available elsewhere | 2.900%

The number assigned to this disaster for physical damage is 362808. For economic injury the number is 9ZX500 for North Carolina; 9ZX600 for Georgia; 9ZX700 for South Carolina; and 9ZX800 for Tennessee.

(Catalog of Federal Domestic Assistance Program Nos. 59002 and 59008.)
Dated: September 20, 2004.
Herbert L. Mitchell,
Associate Administrator for Disaster Assistance.

[FR Doc. 04-21902 Filed 9-29-04; 8:45 am]

BILLING CODE 8025-01-P